DEPARTMENT OF DEFENSE

Defense Acquisition Regulations System

[Docket Number DARS-2018-0034; OMB Control Number 0704-0231]

Information Collection Requirement; (DFARS) Part 237, Service Contracting, Associated DFARS Clauses at DFARS 252.237, DD Form 2062, and DD Form 2063; Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by January 22, 2019.

SUPPLEMENTARY INFORMATION:

Title, Associated Form, and OMB Number: Defense Federal Acquisition Regulation Supplement (DFARS) Part 237, Service Contracting, associated DFARS Clauses at DFARS 252.237, DD Form 2062, and DD Form 2063; OMB Control Number 0704-0231.

Affected Public: Businesses and other for-profit and not-for-profit entities.

Respondent's Obligation: Required to obtain or retain benefits.

Type of Request: Extension of a currently approved collection.

Reporting Frequency: On occasion.

Number of Respondents: 2,737.

Responses per Respondent: 1.5, approximately.

Annual Responses: 4,019.

Average Burden per Response: 1.5, approximately.

Annual Response Burden Hours: 6,051.

Needs and Uses: The information collected under this clearance is used as follows:

a. The information collected pursuant to DFARS provision 252.237-7000(c) is used to verify that the offeror is properly licensed in the state or other political jurisdiction where the offeror operates its professional practice.

b. DFARS 252.237-7011, the DD Form 2062, Record of Preparation and Disposition of Remains (DoD Mortuary Facility), and the DD Form 2063, Record of Preparation and Disposition of Remains (Within CONUS), are used to verify that the deceased's remains have been properly cared for by the mortuary contractor.

c. The written plan required by DFARS provision 252.237-7024, submitted by offerors concurrently with the proposal or offer, allows the contracting officer to assess the offeror's capability to continue providing contractually required services to support the DoD component's mission essential functions in an emergency.

d. The information collected pursuant to DFARS clause 252.237-7023 allows the contracting officer to provide approval of updates to the contractor's plan provided under DFARS clause 252.237-7024, to ensure that the contractor can continue to provide services in support of the DoD component's required mission essential functions in an emergency.

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection.

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Jennifer Lee Hawes,
Regulatory Control Officer, Defense Acquisition Regulations System.

[FR Doc. 2018-27688 Filed 12-20-18; 8:45 am]

BILLING CODE 5001-06-P